DEPARTMENT OF HOMELAND SECURITY

Customs and Border Protection

Distribution of Continued Dumping and Subsidy Offset to Affected Domestic Producers

Correction

In notice document 04-12187 beginning on page 31162 in the issue of Wednesday, June 2, 2004, make the following corrections:

1. On page 31164, in the table, the following entry is corrected to read as set forth below:

Commerce case No. | Commission case No. | Product/country | Petitioners/supporters
C-408-046 | 104-TAA-7 | Sugar/EU | No petition at the Commission; Commerce service list identifies: U.S. Beet Sugar Association. Florida Sugar Marketing and Terminal Association. American Sugar Cane League. American Sugarbeet Growers Association. Florida Sugar Cane League. Rio Grande Valley Sugar Growers Association. Michigan Sugar. Amstar Sugar. Sugar Cane Growers Cooperative of Florida. Alexander & Baldwin. Michigan Farm Bureau. H&R Brokerage. Talisman Sugar. American Farm Bureau Federation. Leach Farms. A.J. Yates. Hawaiian Agricultural Research Center. United States Beet Sugar Association. United States Cane Sugar Refiners' Association.

2. On page 31166, in the table, the following entry is corrected to read as set forth below:

Commerce case No. | Commission case No. | Product/country | Petitioners/supporters
C-351-504 | 701-TA-249 | Heavy iron construction castings/Brazil | Alhambra Foundry. Allegheny Foundry. Bingham & Taylor. Campbell Foundry. Charlotte Pipe & Foundry. Deeter Foundry. East Jordan Foundry. Le Baron Foundry. Municipal Castings. Neenah Foundry. Opelika Foundry. Pinkerton Foundry. Tyler Pipe. U.S. Foundry & Manufacturing. Vulcan Foundry.

[FR Doc. C4-12187 Filed 6-17-04; 8:45 am]

BILLING CODE 1505-01-D